DEPARTMENT OF VETERANS AFFAIRS

Solicitation of Nomination for Appointment to the Advisory Committee on Disability Compensation

ACTION: Notice.

SUMMARY: The Department of Veterans Affairs (VA), Advisory Committee on Disability Compensation (the Committee), is seeking nominations of qualified candidates to be considered for appointment as a member of the Advisory Committee for the 2020—2021 membership cycle.

DATES: Nominations for membership on the Committee must be received by October 16, 2020, no later than 4:00 p.m., eastern standard time. Packages received after this time will not be considered for the current membership cycle.

ADDRESSES: All nomination packages should be emailed to the Designated Federal Officer (DFO), Sian Roussel at sian.roussel@va.gov.

SUPPLEMENTARY INFORMATION: In carrying out the duties set forth, the Committee responsibilities include:

(1) Advising the Secretary and Congress on the maintenance and periodic readjustment of the VA Schedule for Rating Disabilities.

(2) Providing a biennial report to Congress assessing the needs of Veterans with respect to disability compensation and outlining recommendations, concerns, and observations on the maintenance and periodic readjustment of the VA Schedule for Rating Disabilities.

(3) Meeting with VA officials, Veterans Service Organizations, and other stakeholders to assess the Department's efforts on the maintenance and periodic readjustment of the VA Schedule for Rating Disabilities.

Management and support services for the Committee are provided by VBA.

Authority: The Committee is authorized by 38 U.S.C. 546 and operates under the provisions of the Federal Advisory Committee Act, as amended, 5 U.S.C. App. 2.

Membership Criteria: VBA is requesting nominations for upcoming vacancies on the Committee. The Committee is currently composed of 13 members. As required by statute, the members of the Committee are appointed by the Secretary from the general public, including:

(1) Individuals with experience with the provision of disability compensation by VA;

(2) Individuals who are leading medical and scientific experts in relevant fields.

In accordance with § 546, the Secretary determines the number, terms of service, and pay and allowances of members of the Committee, except that a term of service of any such member may not exceed four years. The Secretary may reappoint any member for additional terms of service. Professional Qualifications: In addition to the criteria above, VA seeks: (1) Diversity in professional and personal qualifications; (2) Experience in military service and military deployments (please identify branch of service and rank); (3) Current work with Veterans; (4) Disability compensation subject matter expertise; (5) Experience working in large and complex organizations. Requirements for Nomination Submission: Nominations should be typewritten (one nomination per nominator).

Requirements for Nomination Submission:

The nomination package should include:

(1) A letter of nomination that clearly states the name and affiliation of the nominee, the basis for the nomination (i.e., specific attributes that qualify the nominee for service in this capacity), and a statement from the nominee indicating a willingness to serve as a member of the Committee;

(2) the nominee's contact information, including name, mailing address, telephone numbers, and email address;

(3) the nominee's curriculum vitae, and

(4) a summary of the nominee's experience and qualifications relative to the membership criteria and professional qualifications listed above.

Individuals selected for appointment to the Committee shall be invited to serve a two-year term. Committee members will receive a stipend for attending Committee meetings, including per diem and reimbursement for travel expenses incurred.

The Department makes every effort to ensure that the membership of its Federal advisory committees is fairly balanced in terms of points of view represented. Every effort is made to ensure that a broad representation of geographic areas, gender, and racial and ethnic minority groups, and that the disabled are given consideration for membership. Appointment to this Committee shall be made without discrimination because of a person's race, color, religion, sex (including gender identity, transgender status, sexual orientation, and pregnancy), national origin, age, disability, or genetic information. Nominations must state that the nominee is willing to serve as a member of the Committee and appears to have no conflict of interest that would preclude membership.

Dated: September 23, 2020.
Jelessa M. Burney,
Federal Advisory Committee Management Officer.

[FR Doc. 2020-21413 Filed 9-28-20; 8:45 am]

BILLING CODE P